DEPARTMENT OF DEFENSE

Department of the Army

[Docket ID: USA-2014-0011]

Privacy Act of 1974; System of Records

AGENCY: Department of the Army, DoD.

ACTION: Notice to add a new System of Records.

SUMMARY: The Department of the Army proposes to add a new system of records, A0600-63 DAPE G-1, entitled “Commander's Risk Reduction Dashboard Interim” to its inventory of record systems subject to the Privacy Act of 1974, as amended. This system will provide Commanders with information they need to recognize early warning signs and proactively engage in intervention activities to help reduce Soldier suicides, risk-related deaths, and other negative outcomes of high risk behavior. This system of records notice authorizes Army Commanders of Battalion level and lower level Commanders access to Personally Identifiable Information (PII) and Protected Health Information (PHI) of Soldiers under their command to help identify individuals with high risk profiles.

DATES: Comments will be accepted on or before June 2, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army notices for systems of records subject to the Privacy Act of 1974 (5 U.S.C. 552a), as amended, have been published in the Federal Register and are available from the address in FOR FURTHER INFORMATION CONTACT or at http://dpclo.defense.gov/.

The proposed system report, as required by 5 U.S.C. 552a(r) of the Privacy Act of 1974, as amended, was submitted on April 22, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 28, 2014.
Aaron Siegel,
Alternate OSD Federal Register Liaison Officer, Department of Defense.

A0600-63 DAPE G-1

System name:

Commander's Risk Reduction Dashboard Interim

System location:

Army Analytics Group (AAG) at the Defense Manpower Data Center (DMDC), 400 Gigling Road, Seaside, CA 93935-6784.

Categories of individuals covered by the system:

All Army active duty Soldiers, Reserve and National Guard personnel.

Categories of records in the system:

Names, Unit Identification Code (UIC), Person-Event Data Environment (PDE) assigned identification numbers and DoD ID number.

Suicide risk data such as suicide gestures/self-harm, accidents/injuries, and suicide attempts; alcohol offenses, drug offenses, crimes against property, crimes against persons, domestic abuse, child abuse, screened at the Alcohol Substance Abuse Program (ASAP), illicit positive drug tests, enrollments in the Alcohol Substance Abuse Program (ASAP), readiness limiting behavioral health profiles, financial problems, letters of reprimand, pending medical board, administrative separations pending, family advocacy program use, courts martial, eviction notices, disciplinary actions, Absent Without Leave (AWOL), and change in marital status.

Data indicating the Unit Identification Code (UIC) to which Soldiers are assigned, and data indicating the UIC for which a Commander maintains command authority will be collected.

Authority for maintenance of the system:

5 U.S.C. 7902, Safety Programs; 10 U.S.C 3013, Secretary of the Army; 10 U.S.C. 1071-1085, Medical and Dental Care; 10 U.S.C. 1079a, Civilian Health and Medical Program of the Uniformed Services (CHAMPUS); 10 U.S.C. 1097a and 1097b, TRICARE Prime and TRICARE Program; 10 U.S.C. 136, Under Secretary of Defense for Personnel and Readiness; 10 U.S.C. Chapter 55, Medical and Dental Care; 28 U.S.C. 534, Uniform Federal Crime Reporting Act of 1988; 29 CFR Part 1960, Occupational Illness/Injury Reporting Guidelines for Federal Agencies; 42 U.S.C. 290dd-2 Confidentiality of records; 42 U.S.C. 10606 et seq., Victims' Rights, as implemented by Department of Defense, Instruction 1030.2, Victim and Witness Assistance Procedures; 42 U.S.C. Chapter 117, Sections 11131-11152, Reporting of Information; 44 U.S.C. 3101, Records Management by Federal Agencies; 45 CFR Parts 160 and 164, Health Insurance Portability and Accountability Act, General Administrative Requirements and Privacy and Security Rules; 50 U.S.C. Supplement IV, Appendix 454, as amended, Persons liable for training and service; Pub. L. 91-596, Occupational Safety and Health Act of 1970; Pub. L. 104-91, Health Insurance Portability and Accountability Act of 1996; Federal Drug Free Workplace Act of 1988, DoD 6010.8-R, CHAMPUS; DoD 6010.8-R, Civilian Health and Medical Program of the Uniformed Services (CHAMPUS); DoD 6025.18-R, DoD Health Information Privacy Regulation; DoD Directive 1030.1, Victim and Witness Assistance; DoD Instruction 6015.23, Delivery of Healthcare at Military Treatment Facilities (MTFs); DoD Directive 6040.37, Confidentiality of Medical Quality Assurance (QA) Records; DoD Instruction 6055.1, DoD Safety and Occupational Health Program; DoD Directive 6490.02E, Comprehensive Health Surveillance; DoD Instruction 6495.02, Sexual Assault Prevention and Response Program Procedures; Army Regulation 40-66, Medical Record Administration and Health Care Documentation; Army Regulation 190-45, Military Police Law Enforcement Reporting; Army Regulation 195-2, Criminal Investigation Activities; Army Regulations 385-10, Army Safety Program; Army Regulation 385-40, Accident Reporting and Records; Army Regulation 600-8-104, Army Military Human Resource Records Management; Army Regulation 600-63, Army Health Promotion, Rapid Action Revision, 20 Sep 09, Paragraph 4-4 Suicide Prevention and Surveillance; Army Regulation 600-85, Army Substance Abuse Program; and Army Regulation 608-18, Family Advocacy Program.

Purpose(s):

To provide Commanders with information they need to recognize early warning signs and proactively engage in intervention activities to help reduce Soldier suicides, risk-related deaths, and other negative outcomes of high risk behavior. Authorizes Army Commanders of Battalion level and lower level Commanders access to Personally Identifiable Information (PII) and Protected Health Information (PHI) of Soldiers under their command to help identify individuals with high risk profiles.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of System of Records Notices may apply to this system.

Note: This system of records contains protected health information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.

Policies and practices for storing, retrieving, accessing, retaining, and disposing of records in the system:

Storage:

Electronic storage media.

Retrievability:

Records are retrieved by PDE-ID number.

Safeguards:

The computerized records are located in restricted areas accessible only to authorized personnel with documented security clearances. Physical access is controlled by dual access controls, alarm system, surveillance system, properly cleared and trained personnel with approved need-to-know, and computer hardware and software security features. Records are restricted to designated personnel and protected by a layered architecture and data encryption. Protection is commensurate with the sensitivity level of the data.

Retention and disposal:

Records are maintained until no longer needed for conducting business, but not longer than 6 years, then destroy by erasure or deletion.

System manager(s) and address:

Deputy Chief of Staff G-1, Headquarters, Department of the Army, Army Center for Substance Abuse Program G1, 300 Army Pentagon, Washington, DC 20320-3000.

Notification procedures:

Individuals seeking to determine whether this system of records contains information about themselves should address written inquiries to the Army Center for Substance Abuse Programs, 386 3rd Ave, Building 1467, Fort Knox, KY 40121-2071.

Individuals should provide their full name, date of birth, and DoD ID Number.

In addition, the requester must provide a notarized statement or an unsworn declaration made in accordance with 28 U.S.C. 1746 to declare that the information provided in the request for notification is true and correct, in the following format:

If executed outside the United States:

`I declare (or certify, verify, or state) under penalty of perjury under the laws of the United States of America that the foregoing is true and correct. Executed on (date). (signature)'.

If executed within the United States, its territories, possessions, or Commonwealths:

`I declare (or certify, verify, or state) under penalty of perjury that the foregoing is true and correct. Executed on (date). (signature)'.

Record access procedures:

Individuals seeking access to records about themselves contained in this system should address written inquiries to the Army Center for Substance Abuse Programs, 386 3rd Ave, Building 1467, Fort Knox, KY 40121-2071.

Individuals should provide their full name, date of birth, DoD ID Number.

In addition, the requester must provide a notarized statement or an unsworn declaration made in accordance with 28 U.S.C. 1746, in the following format:

If executed outside the United States:

`I declare (or certify, verify, or state) under penalty of perjury under the laws of the United States of America that the foregoing is true and correct. Executed on (date). (signature)'.

If executed within the United States, its territories, possessions, or Commonwealths:

`I declare (or certify, verify, or state) under penalty of perjury that the foregoing is true and correct. Executed on (date). (signature)'.

Contesting records procedures:

The Army's rules for accessing records, and or contesting contents and appealing denial authority determinations are contained in Army Regulation 340-21; 32 CFR part 505.

Record source categories:

Army Central Registry (ACR), Army Safety Management Information System (ASMIS), U.S. Army Criminal Investigation Command (CID), Centralized Operations Police Suite (COPS), Military Police Reporting System (MPRS), CID Information Management System (CIMS), Automated System Crime Records Center (ASCRC), CIMS Automated Criminal Investigation/Criminal Intelligence (ACI2), Defense Casualty Information Processing System (DCIPS), DoD Suicide Event Registry—Army (DoDSER-A), Drug and Alcohol Management Information System (DAMIS), Electronic Profiling System (e-Profile), Human Resources Command (HRC), Integrated Total Army Personnel Database (ITAPDB), Army Organization Server (AOS), Defense Manpower Data Center (DMDC), and Total Officer Personnel Management Information System (TOPMIS).

Exemptions claimed for the system:

None.

[FR Doc. 2014-09959 Filed 4-30-14; 8:45 am]

BILLING CODE 5001-06-P